DEPARTMENT OF AGRICULTURE

Forest Service

Black Hills National Forest, Bearlodge Ranger District, Wyoming, Dean Project Area Proposal and Analysis

AGENCY: Forest Service, USDA.

ACTION: Revised notice of intent to prepare an environmental impact statement.

SUMMARY: The Forest Service will prepare an environmental impact statement on a proposal to implement multiple resource management actions within the Dean Area as directed by the Black Hills National Forest Land and Resource Management Plan. The Dean Project Area covers about 12,468 acres of National Forest System land and about 2,256 acres of interspersed private land within the Redwater Creek watershed directly north of Sundance, Wyoming. Proposed actions would modify the structure of forest stands across the planning area to reduce fuel loads, potential for uncharacteristically intense wildfire behavior, and risk of insect outbreaks; provide for diverse wildlife habitat and restore hardwood; and provide a mix of motorized and non-motorized use opportunities. This revised Notice of Intent is being issued because of a change in the designated responsible official.

DATES: Scoping was conducting as described in the Notice of Intent of November 24, 2004 (69 FR 68303). Comments submitted during scoping for the proposed action are part of the project record and were considered in developing the Draft EIS. The Draft EIS was issued in March 2005 (70 FR 12211), and the comment period was extended once (70 FR 19951). Comments were accepted through May 2, 2005. These comments are being considered during completion of the Final EIS. The Final environmental impact statement is expected in June 2005.

FOR FURTHER INFORMATION CONTACT: Janis Bouma, Project Coordinator, Black Hills National Forest, Bearlodge Ranger District, 121 S. 21st Street, Sundance, Wyoming 82729, phone (307) 283-1361.

SUPPLEMENTARY INFORMATION: The actions are proposed in direct response to management direction provided by the Black Hills National Forest Land and Resource Management Plan (Forest Plan). The site-specific actions are based on Forest Plan Standards and Guidelines to promote existing resource conditions in the Dean Project Area toward meeting Forest Plan Goals and Objectives. The project area lies in the Bear Lodge Mountains in the Black Hills National Forest, directly north of Sundance, Wyoming. Issues considered include: Fire and fuel hazard reduction; impacts of vegetation treatment and multiple forest uses on wildlife and fish habitat; and travel management and recreation.

Purpose of and Need for Action

There is a need to reduce the potential for uncharacteristically intense wildfire behavior and insect infestation, provide diverse wildlife habitat, and manage motorized recreation in the Dean Project Area. This project will address Forest Plan Goal 2 (providing for biologically diverse ecosystems) and Goal 3 (providing for sustained commodity uses) consistent with Forest Plan Standards and Guidelines.

Proposed Action

Actions proposed in the Dean Project Area include:

• Modifying stand structure across the planning area to reduce potential for uncharacteristically intense wildfire behavior and benefit wildlife. This action includes thinning the forest, removing conifers from stands of hardwoods such as aspen, bur oak, and birch, and expanding and/or creating meadows.

• Reducing fuel loads by decreasing the volume and arrangement of both existing fuels and those resulting from other vegetation treatment activities. Treatment could include lopping, chipping, crushing, piling and burning, and prescribed burning on up to 2,971 acres.

• Reducing the density of pine stands on up to 4,840 acres to decrease the potential for spreading crown fires, increase tree growth and vigor, and lessen the risk of insect infestation and disease. This may be done by using commercial timber harvest to thin out merchantable trees and using other methods to thin small, unmerchantable trees. These actions would provide wood fiber to local industry and would require construction of up to 5.7 miles of new specified roads.

• Modifying the Forest Plan through a non-significant amendment to change Management Area (MA) designation in part of the project area to better reflect actual conditions. The entire project area is currently in MA 5.4 (Big Game Winter Range Emphasis). The lower elevations and south aspects on the east side of the project area currently provide appropriate and important winter range for deer and elk and are utilized as such. However, the remainder of the project area is heavily used by deer and elk only during the spring, summer, and fall, including calving and fawning periods. Therefore, the Forest proposes to change the Management Area designation in a portion of the project area to MA 5.6 (Forest Products, Recreation, and Big Game Emphasis) to reflect the actual utilization and better manage the project area to benefit a variety of wildlife, including big game species, and better reflect existing non-motorized recreation opportunities. Amendments area also proposed to allow reduction of density in certain stands that provide big game thermal cover and to allow treatment of three stands in goshawk post-fledging family areas.

• Providing a mix of motorized and non-motorized opportunities and protecting wildlife in the area by closing the project area to off-road motorized travel and restricting ATV use to designated routes. Main system routes currently open to motorized travel would remain open. Approximately 23.5 miles of roads would also be decommissioned.

Alternatives Consider

Four alternatives were analyzed in detail in the Draft EIS. These alternatives were:

• Alternative A, No Action—Proposed actions would be deferred at this time.

• Alternative B—Promote late succession habitat and increase diversity while reducing fuels and insect infestation risk; amend the Forest Plan to allow deviations from thermal cover and goshawk standards.

• Alternative C—Proposed Action—Aggressively treat forest vegetation to reduce fire and fuels hazards; prohibit off-road motorized travel in the project area; amend the Forest Plan to allow for a change in management area designation and deviations from thermal cover and goshawk standards.

• Alternative D—Focus treatments near private lands and in other strategic locations; de-emphasize the use of commercial timber harvest and feature broadcast burning and fuel breaks; amend the Forest Plan to allow deviations from thermal cover guidelines.

Alternative C was the preferred alternative in the Draft EIS.

Responsible Official

Marisue Hilliard, Acting Forest Supervisor, Black Hills National Forest, is the responsible official. The address is Black Hills National Forest, 25041 N. Highway 16, Custer, South Dakota 57730. The telephone is (605) 673-9200.

Nature of Decision To Be Made

The decisions to be made are whether or not to implement the proposed action or alternatives at this time; and, whether to amend the Revised Forest Plan to allow a change in management area designation for part of the project area, deviations in guidelines for thermal cover, and deviations in goshawk habitat standards.

Dated: May 23, 2005.
Marisue Hilliard,
Acting Forest Supervisor.

[FR Doc. 05-10640 Filed 5-26-05; 8:45 am]

BILLING CODE 3410-11-M